DEPARTMENT OF HOMELAND SECURITY

Coast Guard

33 CFR Part 117

[Docket No. USCG-2018-0475]

Drawbridge Operation Regulation; Neponset River, Boston, MA

AGENCY: Coast Guard, DHS.

ACTION: Notice of deviation from drawbridge regulation.

SUMMARY: The Coast Guard has issued a temporary deviation from the operating schedule that governs the Granite Avenue Bridge across Neponset River, mile 2.5, at Boston, Massachusetts. This deviation is necessary to facilitate the McKeon Post Scholarship Road Race and allows the bridge to remain in the closed position for two hours.

DATES: This deviation is effective from 9:30 a.m. to 11:30 a.m. on June 17, 2018.

ADDRESSES: The docket for this deviation, USCG-2018-0475, is available at http://www.regulations.gov. Type the docket number in the “SEARCH” box and click “SEARCH”. Click on Open Docket Folder on the line associated with this deviation.

FOR FURTHER INFORMATION CONTACT: If you have questions on this temporary deviation, call or email Jeffrey Stieb, Bridge Management Specialist, First District Bridge Branch, U.S. Coast Guard; telephone 617-223-8364, email Jeffrey.D.Stieb@uscg.mil.

SUPPLEMENTARY INFORMATION: The owner of the bridge, the Massachusetts Department of Transportation, requested a temporary deviation from the normal operating schedule to facilitate a road race. The Granite Avenue Bridge, mile 2.5, across Neponset River, has a vertical clearance of 6 feet at mean high water and 16 feet at mean low water in the closed position. The existing drawbridge operating regulations are listed at 33 CFR 117.611.

The temporary deviation will allow the Granite Avenue Bridge to remain closed from 9:30 a.m. to 11:30 a.m. on June 17, 2018. The waterway is used primarily by seasonal recreational vessels. Vessels able to pass through the bridge in the closed positions may do so at any time. The bridge will be able to open for emergencies. There is no alternate route for vessels to pass. The Coast Guard will inform users of the waterway of the change in operating schedule through our Local and Broadcast Notices to Mariners.

In accordance with 33 CFR 117.35(e), the drawbridge must return to its regular operating schedule immediately at the end of the effective period of this temporary deviation. This deviation from the operating regulations is authorized under 33 CFR 117.35.

Dated: May 24, 2018.
C.J. Bisignano,
Supervisory Bridge Management Specialist, First Coast Guard District.

[FR Doc. 2018-11681 Filed 5-30-18; 8:45 am]

BILLING CODE 9110-04-P